DEPARTMENT OF THE INTERIOR

National Park Service

Availability of a Final Environmental Impact Statement for the General Management Plan (FEIS/GMP), Tuskegee Airmen National Historic Site

AGENCY: National Park Service.

ACTION: Notice of availability of a Final Environmental Impact Statement for the General Management Plan (FEIS/GMP), Tuskegee Airmen National Historic Site.

SUMMARY: Pursuant to 42 U.S.C. 4332(2)(C) of the National Environmental Policy Act of 1969 and National Park Service (NPS) policy in Director's Order Number 2 (Park Planning) and Director's Order Number 12 (Conservation Planning, Environmental Impact Analysis, and Decision-making) the NPS announces the availability of a FEIS/GMP for the Tuskegee Airmen National Historic Site, Tuskegee, Alabama. The document provides a framework for management, use, and development options for the historic site by the NPS for the next 15 to 20 years. It describes and analyzes five management alternatives for consideration, including a No-Action Alternative.

Alternative A is the No-Action Alternative, which would continue current management practices and trends, with no major changes in direction.

Alternative B emphasizes the natural environment by keeping the site largely undeveloped and natural in character outside of the core historic areas. Potential areas for visitor interpretive programs are the most limited in this alternative.

Alternative C emphasizes the restoration of the most areas of the park to the 1941-1945 historic period of significance, while providing an emphasis on the natural environment outside of the core historic and visitor areas.

Alternative D is the NPS's preferred and the environmentally preferred alternative. In addition to preserving the core historic area, Alternative D offers a high potential for interpretive and educational opportunities, and aims to provide the most diversity of visitor interpretive programs and recreational opportunities.

Alternative E would emphasize the restoration of a large portion of the park to the 1941-1945 historic period of significance, while offering the most recreational opportunities of all the alternatives.

The FEIS/GMP evaluates potential environmental consequences of implementing the five alternatives. It describes and analyzes potential impacts of the affected cultural and natural resources, socioeconomic environments, visitor use and experience, and NPS operations within and near the park. Eleven resource topics are also addressed, including archeological resources; cultural landscapes, including historic buildings, structures, and districts; water resources; water quality; floodplains; soils; vegetation and wetlands; wildlife; special status species; ecologically critical areas; and natural soundscapes.

DATES: The NPS will execute a Record of Decision no sooner than 30 days following publication by the Environmental Protection Agency of this Notice of Availability in the Federal Register.

ADDRESSES: Copies of the FEIS/GMP are available by contacting the Park Superintendent at Tuskegee Airmen National Historic Site, 1616 Chappie James Avenue, Tuskegee, Alabama 36083; telephone: 334-727-6390. An electronic copy of the FEIS/GMP is available on the Internet at http://parkplanning.nps.gov.

AUTHORITY: The authority for publishing this notice is 40 CFR 1506.6.

FOR FURTHER INFORMATION CONTACT: The Superintendent, Tuskegee Airmen National Historic Site, at the address and telephone number shown above; or Amy Wirsching, Southeast Regional Office, at 404-507-5708.

The responsible official for this FEIS is the Regional Director, Southeast Region, NPS, 100 Alabama Street, SW., 1924 Building, Atlanta, Georgia 30303.

Dated: March 31, 2010.
David Vela,
Regional Director, Southeast Region.

[FR Doc. 2010-8543 Filed 4-13-10; 8:45 am]

BILLING CODE 4310-70-P